ENVIRONMENTAL PROTECTION AGENCY

40 CFR Parts 52 and 70

[EPA-R07-OAR-2014-0468; FRL-9914-51-Region 7]

Approval and Promulgation of Implementation Plans; State of Nebraska; Fine Particulate Matter New Source Review Requirements.

AGENCY: Environmental Protection Agency (EPA).

ACTION: Proposed rule.

SUMMARY: The Environmental Protection Agency (EPA) proposes to approve the State Implementation Plan (SIP) revision submitted by the State of Nebraska. This proposed action will amend the SIP to include revisions to Nebraska's Air Quality Regulations “Definitions”, “Construction Permits—When Required”, and “Prevention of Significant Deterioration of Air Quality” to make the state regulations consistent with the Federal regulations for the fine Particulate Matter (PM2.5) Prevention of Significant Deterioration (PSD) program. This proposed revision will amend the state minor source construction permitting program including the addition of a minor source permitting threshold for PM2.5. These revisions are necessary to properly manage the increment requirements (maximum allowable deterioration to the air quality) of the PSD program and assure continued attainment with the PM2.5 National Ambient Air Quality Standards (NAAQS). This proposed action also recognizes the state's request to not include, into the SIP, provisions relating to Significant Impact Levels (SILs) and Significant Monitoring Concentrations (SMCs). These provisions were vacated and remanded by the U.S. Court of Appeals for the District of Columbia on January 22, 2013.

DATES: Comments on this proposed action must be received in writing by September 3, 2014.

ADDRESSES: Submit your comments, identified by Docket ID No. EPA-R07-OAR-2014-0468, by mail to Greg Crable, Environmental Protection Agency, Air Planning and Development Branch, 11201 Renner Boulevard, Lenexa, Kansas 66219. Comments may also be submitted electronically or through hand delivery/courier by following the detailed instructions in the ADDRESSES section of the direct final rule located in the rules section of this Federal Register.

FOR FURTHER INFORMATION CONTACT: Greg Crable, Environmental Protection Agency, Air Planning and Development Branch, 11201 Renner Boulevard, Lenexa, Kansas 66219 at (913) 551-7391, or by email at crable.gregory@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: July 21, 2014.
Mike Brincks,
Acting Regional Administrator, Region 7.

[FR Doc. 2014-18249 Filed 8-1-14; 8:45 am]

BILLING CODE 6560-50-P